NATIONAL AERONAUTICS AND SPACE ADMINISTRATION

[Notice (03-009)]

NASA Advisory Council, Space Science Advisory Committee, Sun-Earth Connection Advisory Subcommittee Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC), Sun-Earth Connection Advisory Subcommittee (SECAS).

DATES: Wednesday, February 19, 2003, 8:30 a.m. to 5 p.m., Thursday, February 20, 2002, 8:30 a.m. to 5 p.m., and Friday, February 21, 2002, 8:30 a.m. to noon.

ADDRESSES: Holiday Inn Capitol, Columbia II Meeting Room, 500 C Street, SW., Washington, DC 20546.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

• Report on the results of the San Diego Workshop and implications for Sun-Earth Connection (SEC).

• SEC status, including reports on Solar Terrestrial Probe and Living with a Star Lines.

• Report on the Applied Physics Laboratory Solar Probe Study.

• Discussion of Prognosis for Low Cost Access to Space.

• Discussion of Draft Office of Space Science Strategic Plan.

• Science results from High Energy Solar Spectroscopic Imager and Solar Anomalous and Magnetospheric Particle Explorer.

It is imperative that the meeting be held on these dates to accommodate the scheduling priorities of the key participants. Visitors will be requested to sign a visitor's register.

June W. Edwards,
Advisory Committee Management Officer, National Aeronautics and Space Administration.

[FR Doc. 03-3110 Filed 2-6-03; 8:45 am]

BILLING CODE 7510-01-P